DEPARTMENT OF HEALTH AND HUMAN SERVICES

Office of the Secretary

Statement of Organization, Functions, and Delegations of Authority

Part A, Office of the Secretary, Statement of Organization, Functions, and Delegations of Authority for the Department of Health and Human Services (HHS), as last amended at 70 FR 48718, dated August 19, 2005, and Chapter AA, Immediate Office of the Secretary, as last amended at 70 FR 48718, dated August 19, 2005, are being amended to establish a new chapter, Chapter AU, “Office of Consumer Information and Insurance Oversight,” in the Office of the Secretary. The changes are as follows:

I. Under Part A, Chapter AA, Section AA.10 Organization, insert the following: “Office of Consumer Information and Insurance Oversight (AU).”

II. Under Part A, establish a new Chapter AU, “Office of Consumer Information and Insurance Oversight” to read as follows:

Chapter AU, Office of Consumer Information and Insurance Oversight

Section AU.00 Mission

Section AU.10 Organization

Section AU.20 Functions

Section AU.00 Mission. The Office of Consumer Information and Insurance Oversight provides leadership for implementing the provisions of the health reform bill that address private health insurance.

Section AU.10 Organization. The Office of Consumer Information and Insurance Oversight is under the direction of a Director, who reports to the Secretary, and consists of the following components:

• Office of the Director (AUA)

• Office of Oversight (AUB)

• Office of Insurance Programs (AUC)

• Office of Consumer Support (AUD)

• Office of Health Insurance Exchanges (AUE)

Section AU.20 Functions.

A. Office of the Director (AUA). The Office of the Director is headed by the Director of the Office of Consumer Information and Insurance Oversight, who provides executive direction, leadership, and support to the entire Office. The Director is responsible for carrying out the Office's mission and implementing the functions of the Office of Consumer Information and Insurance Oversight. The Office is comprised of organizational components with responsibilities that include planning, evaluation, regulatory affairs, external relations, and administrative management.

B. Office of Oversight (AUB). The Office of Oversight is headed by a Deputy Director, who reports to the Director of the Office of Consumer Information and Insurance Oversight. The Office's responsibilities include: (1) Implementing, monitoring compliance with, and enforcing both the new rules governing the insurance market and the new rules regarding medical loss ratios; (2) performing rate reviews; and (3) issuing rate review grants to states.

C. Office of Insurance Programs (AUC). The Office of Insurance Programs is headed by a Deputy Director, who reports to the Director of the Office of Consumer Information and Insurance Oversight. The Office is responsible for administering both the temporary high-risk pool programs and associated funding to states and the early retiree reinsurance program.

D. Office of Consumer Support (AUD). The Office of Consumer Support is headed by a Deputy Director, who reports to the Director of the Office of Consumer Information and Insurance Oversight. The Office's responsibilities include: (1) Collecting, compiling and maintaining comparative pricing data for the Department's Web site; (2) providing assistance to enable consumers to obtain maximum benefit from the new health insurance system; and (3) establishing and issuing consumer assistance grants to states.

E. Office of Health Insurance Exchanges (AUE). The Office of Health Insurance Exchanges is headed by a Deputy Director, who reports to the Director of the Office of Consumer Information and Insurance Oversight. The Office's responsibilities include: (1) Developing and implementing policies and rules governing state-based exchanges; (2) establishing and issuing planning grants to states; and (3) overseeing the operations of exchanges.

Dated: April 14, 2010.
Kathleen Sebelius,
Secretary.

[FR Doc. 2010-8949 Filed 4-16-10; 8:45 am]

BILLING CODE 4150-03-P